DEPARTMENT OF DEFENSE

Office of the Secretary

[Docket ID: DOD-2009-OS-0066]

Privacy Act of 1974; System of Records

AGENCY: Defense Information Systems Agency, DoD.

ACTION: Notice to Delete 3 Systems of Records.

SUMMARY: The Defense Information Systems Agency is deleting three systems of records notices in its existing inventory of records systems subject to the Privacy Act of 1974, (5 U.S.C. 552a), as amended.

DATES: This proposed action will be effective without further notice on June 15, 2009 unless comments are received which result in a contrary determination.

ADDRESSES: Send comments to the Defense Information Systems Agency, 5600 Columbia Pike, Room 933-I, Falls Church, VA 22041-2705.

FOR FURTHER INFORMATION CONTACT: Ms. Jeanette M. Weathers-Jenkins at (703) 681-2103.

SUPPLEMENTARY INFORMATION: The Defense Information Systems Agency systems of records notices subject to the Privacy Act of 1974, (5 U.S.C. 552a), as amended, have been published in the Federal Register and are available from the address above.

The Defense Information Systems Agency is deleting three systems of records notices in its existing inventory of records systems subject to the Privacy Act of 1974, (5 U.S.C. 552a), as amended. The proposed deletions are not within the purview of subsection (r) of the Privacy Act of 1974, (5 U.S.C. 552a), as amended, which requires the submission of a new or altered system report.

Dated: May 12, 2009.
Morgan E. Frazier,
Alternate OSD Federal Register Liaison Officer, Department of Defense.

Deletions:

K890.06

Card File for Forwarding Mail of Departed Personnel (February 22, 1993, 58 FR 10562).

Reason:

The program is non-operational, all records have been destroyed in accordance with the National Archives and Records Administration records retention schedule. The DISA Mailroom does not process any personal mail, nor do they maintain a card file for departed personnel.

KDEC.07

601-11 Duty Rosters (February 22, 1993, 58 FR 10562).

Reason:

These records are now covered under the System of Records Notice Recall Roster/Locator Records (July 6 2005, 70 FR 38892).

KDEC.08

101-06 Requests and Authorization for Temporary Duty Travel (February 22, 1993, 58 FR 10562).

Reason:

The program is non-operational, all records have been destroyed in accordance with the National Archives and Records Administration records retention schedule.

[FR Doc. E9-11351 Filed 5-14-09; 8:45 am]

BILLING CODE 5001-06-P